DEPARTMENT OF THE INTERIOR

Bureau of Land Management

[LLCAN00000.L18200000.XZ0000]

Notice of Temporary Closure of Public Lands in Eastern Lassen County, California, and Western Washoe County, Nevada

AGENCY: Bureau of Land Management, Interior.

ACTION: Notice.

SUMMARY: Notice is hereby given that BLM-managed public lands in the area affected by the Rush Fire in eastern Lassen County, California, and western Washoe County, Nevada, are closed to public access because of dangers posed by the Rush Fire. Exempted from this closure are personnel and vehicles involved with fire suppression and resource protection and State, local and Federal officials involved with enforcement. This closure is necessary to protect public health and safety.

DATES: The temporary closure is effective August 14, 2012, and will be lifted no later than September 14, 2012.

FOR FURTHER INFORMATION CONTACT: Lynda Roush, Acting Northern California District Manager, 707-825-2309; or BLM Eagle Lake Field Office Manager Ken Collum, 530-252-5374. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This closure affects all public lands bounded by the Juniper Ridge and Tuledad Roads, (combined Lassen County Road 522), the Stage Road (Lassen County Road 504), Marr Road (Lassen County Road 526) and the BLM Buckhorn Road on the north; U. S. Highway 395 on the west; Nevada Highway 447 and the Sand Pass Road on the east; and the Wendel Road on the south. The closure begins at T34N, R13E, SE corner of Section 25 and continues through the entire fire area. This closure is made under authority of 43 CFR 8364. Any person who fails to comply with the provisions of this closure order may be subject to the penalties provided in 43 CFR 8360.0-7. Specific roads included in the closure are Ryepatch Road, Horn Road, Garate Road, Ramhorn Road, Shinn Ranch Road, Stoney Road, Deep Cut Road, Smoke Creek Road, Skedaddle Ranch Road, Brubeck Road, Dry Valley Road, and Buckhorn Road from the junction with Lassen County Road 526 (the Marr Road) to the junction with Nevada State Highway 447. The Ramhorn Springs Campground and the Dodge Reservoir and Campground are also closed.

Thomas Pogacnik,
Deputy State Director.

[FR Doc. 2012-22222 Filed 9-7-12; 8:45 am]

BILLING CODE 4310-40-P